DEPARTMENT OF DEFENSE

Office of the Department of the Air Force

U.S. Air Force Scientific Advisory Board; Notice of Federal Advisory Committee Meeting

AGENCY: Department of Defense, Department of the Air Force, U.S. Air Force Scientific Advisory Board.

ACTION: Notice of Federal Advisory Committee meeting.

SUMMARY: The Department of Defense (DoD) is publishing this notice to announce that the following Federal Advisory Committee meeting of the U.S. Air Force Scientific Advisory Board will take place.

DATES: Closed to the public Thursday June 13, 2019 from 8:45 a.m. to 3:45 p.m. (PT).

ADDRESSES: The address of the closed meeting is the Arnold and Mabel Beckman Center of the National Academies of Sciences and Engineering, 100 Academy Way, Irvine, CA 92617.

FOR FURTHER INFORMATION CONTACT: Evan Buschmann, (240) 612-5503 (Voice), 703-693-5643 (Facsimile), evan.g.buschmann.civ@us.af.mil (Email). Mailing address is 1500 West Perimeter Road, Ste. #3300, Joint Base Andrews, MD 20762. Website: http://www.sab.af.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. Due to circumstances beyond the control of the Department of Defense (DoD) and the Designated Federal Officer, the U.S. Air Force Scientific Advisory Board was unable to provide public notification required by 41 CFR 102-3.150(a) concerning its June 13, 2019 meeting of the U.S. Air Force Scientific Advisory Board. Accordingly, the Advisory Committee Management Officer for the Department of Defense, pursuant to 41 CFR 102-3.150(b), waives the 15-calendar day notification requirement.

Purpose of the Meeting: The purpose of this quarterly board meeting is to formally complete, outbrief, and receive majority approval for the content and recommendations contained in the United States Air Force Scientific Advisory Board Fiscal Year 2019 Studies.

Agenda: 0845-0900 Welcoming Remarks & Quarterly Update, Dr. James Chow, Chair US Air Force Scientific Advisory Board, 0900-0930 FY20 S&T Review Program Update, Dr. Lara Schmidt, S&T Reviews Chair, 0930-1045 21st Century Training and Education Technologies (TET)—Outbrief, Dr. Mica Endsley, Study Chair, 1045-1200 Fidelity of Modeling, Simulation and Analysis to Support Air Force Decision Making (MSA)—Outbrief, Dr. Darcy McGinn, Study Chair, 1200-1300 Lunch Break, 1300-1415 Multi-Source Data Fusion for Target Location and Identification (DFT)—Outbrief, Dr. Patrick Stadter, Study Chair, 1415-1530 FY20 Study Topic Terms of Reference Discussion, Dr. James Chow, Chair US Air Force Scientific Advisory Board 1530-1545 Closing Comments, Dr. James Chow, Chair US Air Force Scientific Advisory Board.

Meeting Accessibility:

Written Statements: Any member of the public that wishes to provide input on the Air Force Scientific Advisory Board Summer Meeting must contact the meeting organizer at the phone number or email address listed in this announcement at least five working days prior to the meeting date. Please ensure that you submit your written statement in accordance with 41 CFR 102-3.140(c) and section 10(a)(3) of the Federal Advisory Committee Act. Statements being submitted in response to the agenda mentioned in this notice must be received by the Scientific Advisory Board meeting organizer at least five calendar days prior to the meeting commencement date. The Scientific Advisory Board meeting organizer will review all timely submissions and respond to them prior to the start of the meeting identified in this notice. Written statements received after this date may not be considered by the Scientific Advisory Board until the next scheduled meeting.

Carlinda N. Lotson,
Acting Federal Register Liaison Officer.

[FR Doc. 2019-12417 Filed 6-11-19; 8:45 am]

BILLING CODE 5001-05-P